NUCLEAR REGULATORY COMMISSION

10 CFR Parts 30, 40, 60, 61, 63, 70, 72

[NRC-2025-0067]

Regulatory Guide: Standard Format and Content of Decommissioning Plans for Materials Licensees

AGENCY: Nuclear Regulatory Commission.

ACTION: Regulatory guide; withdrawal.

SUMMARY: The U.S. Nuclear Regulatory Commission (NRC) is withdrawing Regulatory Guide (RG) 3.65, “Standard Format and Content of Decommissioning Plans for Materials Licensees.” This RG is being withdrawn because it is not needed to endorse NUREG-1757, “Consolidated Decommissioning Guidance: Decommissioning Process for Materials Licensees,” Volume 1, “Decommissioning Process for Materials Licensees.” NUREG-1757 provides the most current guidance on decommissioning nuclear facilities to support license termination for applicants, licensees, and NRC staff reviewers.

DATES: The effective date of the withdrawal of RG 3.65 is April 9, 2025.

ADDRESSES: Please refer to Docket ID NRC-2025-0067 when contacting the NRC about the availability of information regarding this document. You may obtain publicly available information related to this document using any of the following methods:

• Federal Rulemaking Website: Go to https://www.regulations.gov and search for Docket ID NRC-2025-0067. Address questions about Docket IDs in Regulations.gov to Bridget Curran; telephone: 301-415-1003; email: Bridget.Curran@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: James Smith, Office of Nuclear Material Safety and Safeguards, telephone: 301-415-6103; email: James.Smith@nrc.gov, or Amir Mobasheran, Office of Nuclear Regulatory Research, telephone: 301-415-8112; email: Amir.Mobasheran@nrc.gov. Both are staff of the U.S. Nuclear Regulatory Commission, Washington, DC 20555-0001.

SUPPLEMENTARY INFORMATION:

I. Discussion

The NRC is withdrawing RG 3.65, “Standard Format and Content of Decommissioning Plans for Materials Licensees.” RG 3.65 provides guidance on the decommissioning leading to termination of a materials license. In May 2008, RG 3.65, Revision 1, was issued and endorsed the method described in NUREG-1757, Volume 1, Revision 2 (ADAMS Accession No. ML063000243), to provide applicants and licensees with consolidated and updated guidance for decommissioning to support termination of a materials license. The NRC staff uses NUREG-1757 as the primary guidance document while reviewing these applications and licenses. Since NUREG-1757 provides the most current guidance, the NRC has determined that RG 3.65 is no longer needed.

The withdrawal of RG 3.65 does not alter any prior or existing NRC licensing approval or the acceptability of licensee commitments to RG 3.65. Although RG 3.65 is being withdrawn, current licensees may continue to use it, and this withdrawal does not affect any existing licenses or agreements. However, applicants and licensees should use NUREG-1757 to support future requests or applications for NRC licensing actions related to the guidance in RG 3.65.

II. Additional Information

As noted in the Federal Register on December 9, 2022 (87 FR 75671), this document is being published in the “Rules” section of the Federal Register to comply with publication requirements under chapter I of title 1 of the Code of Federal Regulations.

III. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: April 4, 2025.
For the Nuclear Regulatory Commission.
Meraj Rahimi,
Chief, Regulatory Guide and Programs Management Branch, Division of Engineering, Office of Nuclear Regulatory Research.

[FR Doc. 2025-06107 Filed 4-8-25; 8:45 am]

BILLING CODE 7590-01-P